ENVIRONMENTAL PROTECTION AGENCY

[ER-FRL-8588-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7146. An explanation of the ratings assigned to draft environmental impact statements (EISs) was published in FR dated April 6, 2008 (73 FR 19833).

Draft EISs

EIS No. 20080282, ERP No. D-UPS-K80007-CA, Aliso Viejo Incoming Mail Facility, Proposed Construction and Operation of a Mail Processing Facility on a 25-Acre Parcel, Aliso Viejo, Orange County, CA.

Summary: EPA expressed environmental concerns about air quality, water quality and stormwater impacts, and requested that the final EIS and ROD commit to all stated mitigation measures. Rating EC1.

EIS No. 20080292, ERP No. D-IBR-K65343-CA, Millerton Lake Resource Management Plan (RMP) and General Plan, Implementation, Fresno and Madera Counties, CA.

Summary: EPA expressed environmental concerns about environmental resource and noise impacts. EPA also requested additional information on climate change, funding, and enforcement. Rating EC2.

EIS No. 20080293, ERP No. D-IBR-K65344-CA, Cachuma Lake Resource Management Plan, Implementation, Cachuma Lake, Santa Barbara County, CA.

Summary: EPA expressed environmental concerns about air quality, water quality and cumulative impacts. Rating EC2.

EIS No. 20080314, ERP No. D-NOA-L39067-OR, Elliott State Forest Habitat Conservation Plan, Proposed Issuance of an Incidental Take Permit, US Army Corps section 10 and 404 Permits, Coos and Douglas Counties, OR.

Summary: EPA expressed environmental concerns about impacts to headwater streams and aquatic resources. Rating EC2.

EIS No. 20080372, ERP No. D-AFS-L65558-ID, Salmon-Challis National Forest (SCNF), Proposes Travel Planning and OHV Route Designation, Lemhi, Custer and Butte Counties, ID.

Summary: EPA expressed environmental concerns about potential impacts to water quality, fish habitat, noxious weed infestations and air quality. EPA recommends increased restrictions in vulnerable watersheds, especially for motorized dispersed camping and for crossing streams and wet meadows. Rating EC2.

EIS No. 20080381, ERP No. D-IBR-K39115-CA, South Coast Conduit/Upper Reach Reliability Project, Construction of a Second Water Pipeline for Improving Water Supply, U.S. Army COE section 10 and 404 Permits, Santa Barbara County, CA.

Summary: EPA continues to have environmental concerns about impacts to aquatic resources and oak woodland habitat. Rating EC2.

EIS No. 20080388, ERP No. D-AFS-L65559-OR, BLT Project, Proposed Vegetation Management Activities, Crescent Ranger District, Deschutes National Forest, Deschutes County, OR.

Summary: EPA expressed environmental concerns about air quality and visibility, water quality, and health impacts. Rating EC2.

EIS No. 20080391, ERP No. D-FHW-F40444-MN, Trunk Highway 14 (US 14) Project, Proposed Construction from Interstate 35 to Trunk Highway 56, Funding, NPDES and U.S. Army COE section 404 Permits, Steele and Doge Counties, MN.

Summary: EPA expressed environmental concerns about wetland and noise impacts. EPA also recommended green construction and development practices. Rating EC2.

EIS No. 20080330, ERP No. DS-COE-E11060-NC, Topsail Beach Interim (Emergency) Beach Fill Project—Permit Request, Proposal to Place Sand on 4.7 miles of the Town's Shoreline to Protect the Dune Complex and Oceanfront Development, Onslow and Pender Counties, NC.

Summary: EPA expressed environmental concerns about borrow site impacts to Lea/Hutaff Island. EPA requested clarification on beach erosion, and the assumptions of beachfront real estate values used in the economic impact analysis. Rating EC2.

EIS No. 20080364, ERP No. DS-NPS-E61077-GA, Chattahoochee River National Recreation Area General Management Plan, Updated Information on Analyzing Six Alternative Future Directions for the Management and Use of Chattachoochee River National Recreation Area, Implementation, Chattahoochee River, Atlanta, GA.

Summary: EPA does not object to the proposed project. Rating LO.

Final EISs

EIS No. 20080355, ERP No. F-AFS-L65489-OR, Ashland Forest Resiliency Project, To Recover from Large-Scale High-Severity Wild Land Fire, Upper Bear Analysis Area, Ashland Ranger District, Rogue River-Siskiyou National Forest, Jackson County, OR.

Summary: The Final EIS addressed EPA's concerns about potential impacts from sediment to drinking water; therefore, EPA does not object to the proposed action.

EIS No. 20080424, ERP No. F-NOA-E91025-00, Reef Fish Amendment 30B: Gag-End Overfishing and Set Management Thresholds and Targets; Red Grouper—Set Optimum Yield, Total Allowable Catch (TAC), and Management Measures: Area Closures: and Federal Regulatory Compliance, Implementation, Gulf of Mexico.

Summary: No formal comment letter was sent to the preparing agency.

EIS No. 20080429, ERP No. F-BLM-A09825-00, PROGRAMMATIC—Geothermal Leasing in the Western United States.

Summary: EPA continues to have environmental concerns about groundwater quantity and quality impacts, especially where there are sole source aquifers and protected geothermal resources.

EIS No. 20080430, ERP No. F-COE-K39114-CA, Three Rivers Levee Improvement Authority, proposes construct and maintain the Feather River Levee Repair Project, Segment 2, Issuing 408 Permission and 404 Permit, Yuba County, CA.

Summary: EPA continues to have environmental concerns and recommends sustainable agricultural practices to reduce impacts to water quality and requested review of the Best Management Practices Plan required by the State of California.

EIS No. 20080444, ERP No. F-NPS-K65334-HI, PROGRAMMATIC EIS—Ala Kahakai National Historic Trail Comprehensive Management Plan, To Provide Long-Term Direction for Natural and Cultural Resource, Island of Hawaii, HI.

Summary: EPA does not object to the proposed project.

EIS No. 20080410, ERP No. FA-FTA-K40208-CA, South Sacramento Corridor Phase 2, Improve Transit Service and Enhance Regional Connectivity, Funding, in the City and County Sacramento, CA.

Summary: EPA does not object to the proposed project.

Dated: December 9, 2008.
Robert W. Hargrove,
Director, NEPA Compliance Division, Office of Federal Activities.

[FR Doc. E8-29489 Filed 12-11-08; 8:45 am]

BILLING CODE 6560-50-P